DEPARTMENT OF TRANSPORTATION

Federal Aviation Administration

14 CFR Part 71

[Docket No. FAA-2023-2513; Airspace Docket No. 23-AGL-26]

RIN 2120-AA66

Amendment of Jet Route J-211 and Revocation of VOR Federal Airway V-41; Youngstown, OH

AGENCY: Federal Aviation Administration (FAA), DOT.

ACTION: Final rule, delay of effective date.

SUMMARY: This action delays the effective date of a final rule published in the Federal Register on August 19, 2024, corrected September 30, 2024, amending Jet Route J-211 and revoking Very High Frequency Omnidirectional Range (VOR) Federal Airway V-41. The FAA is delaying the effective date to allow sufficient time for completing the update of all the Instrument Approach Procedures (IAP) into Pittsburgh International Airport that are affected by the revocation of V-41.

DATES: The effective date of the final rule published on August 19, 2024 (89 FR 66987) and corrected on September 30, 2024 (89 FR 79429) is delayed from October 31, 2024, to December 26, 2024. The Director of the Federal Register approved this incorporation by reference action under 1 CFR part 51, subject to the annual revision of FAA Order JO 7400.11 and publication of conforming amendments.

FOR FURTHER INFORMATION CONTACT: Colby Abbott, Rules and Regulations Group, Office of Policy, Federal Aviation Administration, 600 Independence Avenue SW, Washington, DC 20597; telephone: (202) 267-8783.

SUPPLEMENTARY INFORMATION:

Background

The FAA published a final rule in the Federal Register for Docket No. FAA-2023-2513 (89 FR 66987, August 19, 2024, and correction (89 FR 79429; September 30, 2024), amending Jet Route J-211 and revoking VOR Federal Airway V-41 due to the planned decommissioning of the VOR portion of the Youngstown, OH, VOR/Tactical Air Navigation (VORTAC) navigational aid (NAVAID). The effective date for that final rule is October 31, 2024. After the final rule was published, the FAA determined that the required update actions to all the IAPs into Pittsburgh International Airport would not be completed in time to meet the original planned decommissioning date. Therefore, the current IAPs need to remain in place, to include VOR Federal Airway V-41 which is a transition on the JESEY Four Arrival into Pittsburgh International Airport, until the next chart date.

The FAA expects the required updates for all the IAPs into Pittsburgh International Airport to be completed by December 26, 2024; therefore, the rule amending Jet Route J-211 and revoking VOR Federal Airway V-41 is delayed to coincide with that date.

Jet Routes are published in paragraph 2004 and VOR Federal Airways are published in paragraph 6010(a) of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available online at www.faa.gov/air_traffic/publications/. You may also contact the Rules and Regulations Group, Office of Policy, Federal Aviation Administration, 600 Independence Avenue SW, Washington, DC 20597; telephone: (202) 267-8783.

FAA Order JO 7400.11J lists Class A, B, C, D, and E airspace areas, air traffic service routes, and reporting points.

Good Cause for No Notice and Comment

Section 553(b)(3)(B) of Title 5, United States Code, (the Administrative Procedure Act) authorizes agencies to dispense with notice and comment procedures for rules when the agency for “good cause” finds that those procedures are “impracticable, unnecessary, or contrary to the public interest.” Under this section, an agency, upon finding good cause, may issue a final rule without seeking comment prior to the rulemaking. The FAA finds that prior notice and public comment to this final rule is unnecessary due to the brief length of the extension of the effective date and the fact that there is no substantive change to the rule.

Delay of Effective Date

Accordingly, pursuant to the authority delegated to me, the effective date of the final rule for Airspace Docket 23-AGL-26, as published in the Federal Register on August 19, 2024 (89 FR 66987), FR Doc. 2024-18431, and corrected on September 30, 2024 (89 FR 79429), FR Doc. 2024-22253, is hereby delayed until December 26, 2024.

Authority: 49 U.S.C. 106(f), 106(g); 40103, 40113, 40120; E.O. 10854, 24 FR 9565, 3 CFR, 1959-1963 Comp., P. 389.

Issued in Washington, DC, on October 8, 2024.
Brian Eric Konie,
Acting Manager, Rules and Regulations Group.

[FR Doc. 2024-23612 Filed 10-11-24; 8:45 am]

BILLING CODE 4910-13-P